DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | *Elevation in feet (NGVD) +Elevation in feet (NAVD) #Depth in feet above ground ‸Elevation in meters (MSL) Modified
City of Hampton, Virginia (Independent City)
Docket No.: FEMA-B-1097
Virginia | City of Hampton | Newmarket Creek | Approximately 275 feet downstream of Big Bethel Road | +9
|  |  | Approximately 20 feet upstream of the confluence with Newmarket Creek Tributary | +22
| City of Hampton | Newmarket Creek Tributary | At the confluence with Newmarket Creek | +22
|  |  | Approximately 30 feet downstream of I-64 | +22
*National Geodetic Vertical Datum.
+North American Vertical Datum.
#Depth in feet above ground.
‸Mean Sea Level, rounded to the nearest 0.1 meter.
ADDRESSES
City of Hampton
Maps are available for inspection at the Central Permits Office, 22 Lincoln Avenue, Hampton, VA 23669.

Flooding source(s) | Location of referenced elevation | * Elevation in feet (NGVD) + Elevation in feet (NAVD) # Depth in feet above ground ‸ Elevation in meters (MSL) Modified | Communities affected
Fayette County, Iowa, and Incorporated Areas
Docket No.: FEMA-B-1122
Otter Creek (City of Elgin) | Approximately 1,550 feet upstream of Cedar Road | +804 | Unincorporated Areas of Fayette County.
| Approximately 80 feet downstream of Mill Street | +831
Otter Creek (City of Oelwein) | Approximately 460 feet upstream of West Charles Street | +1004 | Unincorporated Areas of Fayette County.
| At the City of Oelwein corporate limit, approximately 1.4 miles upstream of Lake Oelwein Dam | +1019
Turkey River | Approximately 0.3 mile downstream of Center Street | +802 | Unincorporated Areas of Fayette County.
| Approximately 1.6 miles upstream of Center Street | +809
* National Geodetic Vertical Datum.
+ North American Vertical Datum.
# Depth in feet above ground.
‸ Mean Sea Level, rounded to the nearest 0.1 meter.
ADDRESSES
Unincorporated Areas of Fayette County
Maps are available for inspection at the Fayette County Courthouse, 114 North Vine Street, West Union, IA 52175.
Ingham County, Michigan (All Jurisdictions)
Docket No.: FEMA-B-1122
Deer Creek | At CSX Railway | +864 | City of Williamston, Township of Wheatfield.
| Approximately 0.4 mile upstream of Wallace Street | +864
Moon and Hamilton County Drain | At the Detention Area F Control Structure | +861 | City of Lansing.
| At I-96/69 | +863
Red Cedar River | Approximately 1.4 miles upstream of the upstream crossing of North Putnam Street | +868 | City of Williamston, Township of Leroy, Township of Locke, Township of Wheatfield, Township of Williamstown, Village of Webberville.
| At Grammer Road North | +875
Remey Chandler Drain/Sanderson Drain | Approximately 0.7 mile downstream of West Lake Lansing Road | +841 | Charter Township of Meridian, City of East Lansing.
| At the upstream side of West Lake Lansing Road | +842
Willow Creek | Approximately 1,250 feet upstream of U.S. Route 127 | +893 | Township of Vevay.
| Approximately 0.58 mile upstream of U.S. Route 127 | +893
* National Geodetic Vertical Datum.
+ North American Vertical Datum.
# Depth in feet above ground.
‸ Mean Sea Level, rounded to the nearest 0.1 meter.
ADDRESSES
Charter Township of Meridian
Maps are available for inspection at the Meridian Township Hall, 5151 Marsh Road, Okemos, MI 48864.
City of East Lansing
Maps are available for inspection at City Hall, 410 Abbott Road, East Lansing, MI 48823.
City of Lansing
Maps are available for inspection at City Hall, 124 West Michigan Avenue, Lansing, MI 48933.
City of Williamston
Maps are available for inspection at City Hall, 161 East Grand River Avenue, Williamston, MI 48895.
Township of Leroy
Maps are available for inspection at the Leroy Township Hall, 315 West Walnut Street, Webberville, MI 48892.
Township of Locke
Maps are available for inspection at the Locke Township Hall, 3805 Bell Oak Road, Williamston, MI 48895.
Township of Vevay
Maps are available for inspection at the Vevay Township Hall, 780 South Eden Road, Mason, MI 48854.
Township of Wheatfield
Maps are available for inspection at the Wheatfield Township Hall, 985 East Hold Road, Williamston, MI 48895.
Township of Williamstown
Maps are available for inspection at the Williamstown Township Hall, 4990 North Zimmer Road, Williamston, MI 48895.
Village of Webberville
Maps are available for inspection at the Village Hall, 115 South Main Street, Webberville, MI 48892.
Benton County, Minnesota, and Incorporated Areas
Docket No.: FEMA-B-1110
Mississippi River | Approximately 1.30 miles downstream of 125th Street | +1027 | City of Rice.
| Approximately 1.23 miles upstream of 125th Street | +1030
* National Geodetic Vertical Datum.
+ North American Vertical Datum.
# Depth in feet above ground.
‸ Mean Sea Level, rounded to the nearest 0.1 meter.
ADDRESSES
City of Rice
Maps are available for inspection at 205 Main Street East, Rice, MN 56367.
Butler County, Nebraska, and Incorporated Areas
Docket No.: FEMA-B-1112
Platte River | Approximately 100 feet downstream of the Saunders County boundary | +1309 | Unincorporated Areas of Butler County.
| Approximately 575 feet downstream of the Polk County boundary | +1442
* National Geodetic Vertical Datum.
+ North American Vertical Datum.
# Depth in feet above ground.
‸ Mean Sea Level, rounded to the nearest 0.1 meter.
ADDRESSES
Unincorporated Areas of Butler County
Maps are available for inspection at 451 North 5th Street, David City, NE 68632.
Guernsey County, Ohio, and Incorporated Areas
Docket No.: FEMA-B-1089
Clear Fork | Approximately 175 feet downstream of Birmingham Road | +830 | Unincorporated Areas of Guernsey County.
| Approximately 0.5 mile upstream of Birmingham Road | +837
Leatherwood Creek | Approximately 174 feet upstream of Linn Road | +874 | Unincorporated Areas of Guernsey County, Village of Quaker City.
| At the upstream side of Eldon Road | +880
Wills Creek | Approximately 115 feet downstream of CSX Railroad | +802 | Unincorporated Areas of Guernsey County.
| Approximately 191 feet upstream of State Route 313 | +803
Wills Creek and Buffalo Creek | Approximately 0.4 mile downstream of State Route 146 | +803 | Unincorporated Areas of Guernsey County, Village of Pleasant City.
| Approximately 0.5 mile upstream of State Route 146 | +806
Wills Creek at Kimbolton | Approximately 375 feet downstream of Main Street | +776 | Unincorporated Areas of Guernsey County.
| Approximately 0.8 mile upstream of Main Street | +777
* National Geodetic Vertical Datum.
+ North American Vertical Datum.
# Depth in feet above ground.
‸ Mean Sea Level, rounded to the nearest 0.1 meter.
ADDRESSES
Unincorporated Areas of Guernsey County
Maps are available for inspection at 62782 Bennett Avenue, Cambridge, OH 43725.
Village of Pleasant City
Maps are available for inspection at 62782 Bennett Avenue, Cambridge, OH 43725.
Village of Quaker City
Maps are available for inspection at 126 Fair Street, Quaker City, OH 43773.
Lucas County, Ohio, and Incorporated Areas
Docket No.: FEMA-B-1049
Barnum Ditch | Just upstream of the confluence with Tifft Ditch | +617 | City of Toledo.
| Approximately 350 feet downstream of Willis Boulevard | +626
Blue Creek | Approximately 1,100 feet upstream of Finzel Road | +640 | Unincorporated Areas of Lucas County, Village of Whitehouse.
| At the downstream side of Fulton Lucas Road | +665
Blystone Ditch | At the upstream side of Dutch Road | +644 | Unincorporated Areas of Lucas County, Village of Waterville.
| At the downstream side of Bluebird Train Railroad | +659
Comstock Ditch | At the upstream side of Brint Road | +675 | Unincorporated Areas of Lucas County.
| At the downstream side of Mitchaw Road | +679
Crane Creek | Approximately 0.6 mile downstream of Nissen Road | +579 | Unincorporated Areas of Lucas County.
| Approximately 2,000 feet upstream of Ofper Lentz Road | +584
Deline Ditch | At the confluence with Heldman Ditch (East) | +606 | City of Toledo.
| At the downstream side of Hill Avenue | +629
Deline Ditch Overflow | At the confluence with Deline Ditch | +614 | City of Toledo.
| Just downstream of the divergence from Deline Ditch | +625
Dennis Ditch | At the confluence with Heldman Ditch (East) | +604 | City of Toledo.
| Approximately 875 feet upstream of South Avenue | +623
Detwiler Ditch | At the upstream side of Summit Street | +578 | City of Toledo.
| Approximately 0.56 mile upstream of I-280 | +578
Disher Ditch | At the upstream side of Rupp Road | +640 | Unincorporated Areas of Lucas County, Village of Whitehouse.
| At the downstream side of Berkey Southern Highway | +657
Disher Ditch Overflow | At the confluence with Blue Creek | +640 | Village of Whitehouse.
| At the downstream side of Heller Road | +653
Duck Creek | At mouth at Maumee Bay | +578 | City of Oregon, City of Toledo.
| At the downstream side of Consaul Street | +578
Eisenbraum Ditch | Approximately 175 feet downstream of Elsie Avenue | +618 | City of Toledo.
| At the downstream side of West Alexis Highway | +651
Good Ditch | South of Angola Road near Holland Park Boulevard | +633 | Village of Holland.
| South of Angola Road approximately 60 feet west of Holland Park Boulevard | +633
Haefner Ditch | At the confluence with Hill Ditch | +604 | City of Toledo, Unincorporated Areas of Lucas County.
| At the downstream side of I-475 | +638
Heldman Ditch (East) | At the downstream side of Edgevale Road | +594 | City of Toledo, Unincorporated Areas of Lucas County, Village of Ottawa Hills.
| At the downstream side of West Bancroft Street | +665
Heldman Ditch (West) | At the confluence with Prairie Ditch | +668 | Unincorporated Areas of Lucas County.
| At the downstream side of North Crissey Road | +668
Hill Ditch | At the confluence with Heldman Ditch (East) | +604 | City of Toledo, Unincorporated Areas of Lucas County.
| Just downstream of the confluence with Smith Ditch South | +639
Jamieson Ditch | At the confluence with Silver Creek | +595 | City of Toledo.
| At the downstream side of Lewis Avenue | +600
Ketcham Ditch | Approximately 700 feet downstream of Jackman Road | +609 | City of Toledo.
| At the downstream side of Adella Street | +619
Lone Oak Ditch | At the upstream side of Winslow Road | +644 | Unincorporated Areas of Lucas County, Village of Whitehouse.
| Approximately 70 feet downstream of Berkey Southern Highway | +657
Maumee Bay | West of the mouth of Driftmeyer Ditch | +578 | City of Oregon, City of Toledo.
| At the northern county boundary | +578
Maumee River | At mouth at Maumee Bay | +578 | City of Toledo.
| At the upstream side of Norfolk Southern Railroad | +578
Mayer Ditch | At the downstream side of I-475 | +636 | Unincorporated Areas of Lucas County.
| Approximately 475 feet downstream of Dorr Street | +639
McPeak Ditch | Approximately 100 feet above the confluence with Tenmile Creek | +646 | City of Sylvania.
| Approximately 1,300 feet upstream of Winding Way | +668
Mud Creek | At the confluence with Detwiler Creek | +578 | City of Toledo.
| At the downstream side of Hoffman Road | +578
North Branch Ketcham Ditch | At the downstream side of Douglas Road | +620 | City of Toledo.
| Approximately 650 feet upstream of Secor Road | +631
Ottawa River | Approximately 0.91 mile downstream of Summit Street | +578 | City of Oregon, City of Toledo.
| At the downstream side of CSX Transportation Railroad | +578
Otter Creek | At the downstream side of Corduroy Road | +578 | City of Toledo.
| At mouth at Maumee Bay | +578
| At the upstream side of CSX Transportation Railroad | +589
| Approximately 350 feet upstream of CSX Transportation Railroad | +589
| At the upstream side of CSX Transportation Railroad | +590
| Approximately 475 feet downstream of Dover Place | +590
Peterson Ditch | At the upstream side of Haughton Drive | +614 | City of Toledo.
| Approximately 100 feet upstream of Goddard Road | +615
Potter Ditch | At the confluence with Heldman Ditch (East) | +635 | City of Toledo, Unincorporated Areas of Lucas County.
| At the downstream side of Derbyshire Road | +635
Schmitz Ditch | At the confluence with Tenmile Creek | +694 | Village of Berkey.
| At the downstream side of Lathrop Road | +707
Schneider Ditch | Just upstream of the confluence with Williams Ditch | +621 | City of Toledo.
| At the downstream side of Hill Avenue | +621
Shantee Creek | At the confluence with Silver Creek | +583 | City of Toledo, Unincorporated Areas of Lucas County.
| Approximately 225 feet upstream of Tremainsville Road | +612
| Approximately 1,100 feet downstream of Summit Street | +578
| Approximately 300 feet downstream of Hagman Road | +578
Shantee Creek Overflow Channel 1 | Approximately 175 feet upstream of Lewis Avenue | +599 | City of Toledo.
| Just downstream of the divergence from Shantee Creek | +611
Shantee Creek Overflow Channel 2 | At the confluence with Shantee Creek | +599 | City of Toledo.
| Approximately 100 feet downstream of Jackman Road | +609
Sharp Ditch | At the upstream side of Brint Road | +679 | Unincorporated Areas of Lucas County.
| Approximately 1.0 mile upstream of Brint Road | +683
Silver Creek | At the upstream side of CN North America Railroad | +578 | City of Toledo, Unincorporated Areas of Lucas County.
| Approximately 100 feet upstream of Woodview Drive | +639
Smith Ditch South | At the confluence with Hill Ditch | +639 | Unincorporated Areas of Lucas County.
| Approximately 200 feet upstream of Wimbledon Park Boulevard | +661
South Branch Silver Creek | At the confluence with Silver Creek | +628 | City of Toledo.
| Approximately 1,150 feet upstream of Rambo Lane | +633
Tenmile Creek | At the upstream side of Herr Road | +668 | Unincorporated Areas of Lucas County, Village of Berkey.
| At the downstream side of North Fulton Lucas Road | +708
Tifft Ditch | Approximately 225 feet upstream of Tremainsville Road | +612 | City of Toledo, Unincorporated Areas of Lucas County.
| Approximately 300 feet upstream of Talmadge Road | +634
Vanderpool Ditch | At the downstream side of McCord Road | +644 | Unincorporated Areas of Lucas County.
| Approximately 375 feet downstream of King Road | +656
Williams Ditch | At the upstream side of Norfolk Southern Railroad | +614 | City of Toledo.
| Approximately 175 feet downstream of Hill Avenue | +621
Wing Ditch | Just upstream of the confluence with Silver Creek | +633 | City of Toledo.
| Approximately 75 feet downstream of Merle Street | +637
* National Geodetic Vertical Datum.
+ North American Vertical Datum.
# Depth in feet above ground.
‸ Mean Sea Level, rounded to the nearest 0.1 meter.
ADDRESSES
City of Oregon
Maps are available for inspection at 5330 Seaman Road, Oregon, OH 43616.
City of Sylvania
Maps are available for inspection at 6730 Monroe Street, Suite 101, Sylvania, OH 43560.
City of Toledo
Maps are available for inspection at 1 Government Center, Suite 1600, Toledo, OH 43604.
Unincorporated Areas of Lucas County
Maps are available for inspection at 1115 South McCord Road, Holland, OH 43528.
Village of Berkey
Maps are available for inspection at 12360 Sylvania-Metamora Road, Berkey, OH 45304.
Village of Holland
Maps are available for inspection at 1245 Clarion Avenue, Holland, OH 43528.
Village of Ottawa Hills
Maps are available for inspection at 2125 Richards Road, Toledo, OH 43606.
Village of Waterville Maps are available for inspection at 25 North 2nd Street, Waterville, OH 43566
Village of Whitehouse
Maps are available for inspection at 6925 Providence Street, Whitehouse, OH 43571.
Lamar County, Texas, and Incorporated Areas
Docket No.: FEMA-B-1045
Baker Branch | Approximately 799 feet downstream of Loop 286 | +503 | City of Paris, Unincorporated Areas of Lamar County.
| Approximately 1,002 feet upstream of Bonham Street | +572
Baker Branch Tributary #10 | Just downstream of the confluence with Baker Branch | +537 | City of Paris, Unincorporated Areas of Lamar County.
| Approximately 503 feet upstream of Sherman Street | +560
Baker Branch Tributary #24 | Just upstream of the confluence with Baker Branch | +508 | City of Paris, Unincorporated Areas of Lamar County.
| Approximately 59 feet downstream of 7th Street | +513
Big Sand Creek Tributary #7 | Just downstream of the confluence with Big Sandy Creek | +532 | City of Paris, Unincorporated Areas of Lamar County.
| Approximately 708 feet upstream of 17th Street | +569
Big Sandy Creek | Approximately 1,300 feet downstream of Loop 286 | +494 | City of Paris, Unincorporated Areas of Lamar County.
| Approximately 475 feet upstream of Sherman Street | +571
Big Sandy Creek Tributary #2 | Just upstream of the confluence with Big Sandy Creek | +502 | City of Paris, Unincorporated Areas of Lamar County.
| Approximately 647 feet upstream of Lamar Avenue | +546
Big Sandy Creek Tributary #3 | Just upstream of Houston Street | +557 | City of Paris, Unincorporated Areas of Lamar County.
| Just upstream of the confluence with Big Sandy Creek | +588
Big Sandy Creek Tributary #4 | Just downstream of the confluence with Big Sandy Creek | +516 | City of Paris, Unincorporated Areas of Lamar County.
| Approximately 888 feet upstream of Price Street | +562
Big Sandy Creek Tributary #8 | Just downstream of the confluence with Big Sandy Creek | +546 | City of Paris, Unincorporated Areas of Lamar County.
| Approximately 1,045 feet upstream of Hearon Street | +574
Big Sandy Creek Tributary #16 | Just upstream of the confluence with Big Sandy Creek Tributary #4 | +536 | City of Paris, Unincorporated Areas of Lamar County.
| Just upstream of Cherry Street | +568
Cottonwood Branch Tributary #11 | Approximately 75 feet downstream of Old Brookston Road | +516 | City of Paris, Unincorporated Areas of Lamar County.
| Approximately 377 feet upstream of Austin Street | +584
Pine Creek Tributary #12 | Approximately 852 feet downstream of the confluence with Pine Creek Tributary #13 | +506 | City of Paris, Unincorporated Areas of Lamar County.
| Approximately 194 feet downstream of the confluence with Old City Lake | +524
Pine Creek Tributary #13 | Just upstream of the confluence with Pine Creek Tributary #12 | +508 | City of Paris, Unincorporated Areas of Lamar County.
| Approximately 184 feet upstream of 28th Street | +557
Smith Creek | Just downstream of the confluence with Smith Creek Tributary #15 | +518 | City of Paris, Unincorporated Areas of Lamar County.
| Just upstream of Center Street | +521
Smith Creek Tributary #15 | Just upstream of Center Street | +524 | City of Paris, Unincorporated Areas of Lamar County.
| Approximately 236 feet downstream of Houston Street | +588
Stillhouse Creek Tributary #20 | Approximately 227 feet downstream of Spur 139 | +514 | City of Paris, Unincorporated Areas of Lamar County.
| Approximately 44 feet upstream of Ridgeview Street | +573
Stillhouse Creek Tributary #21 | Just downstream of the confluence with Stillhouse Creek Tributary #20 | +526 | City of Paris, Unincorporated Areas of Lamar County.
| Approximately 32 feet downstream of Belmont Street | +581
Stillhouse Creek Tributary #22 | Just downstream of State Highway 195 | +508 | City of Paris, Unincorporated Areas of Lamar County.
| Approximately 170 feet upstream of Loop 535 | +537
Stillhouse Creek Tributary #23 | Just downstream of the confluence with Stillhouse Creek Tributary #22 | +521 | City of Paris, Unincorporated Areas of Lamar County.
| Approximately 43 feet downstream of Loop 286 | +539
* National Geodetic Vertical Datum.
+ North American Vertical Datum.
# Depth in feet above ground.
‸ Mean Sea Level, rounded to the nearest 0.1 meter.
ADDRESSES
City of Paris
Maps are available for inspection at City Hall, 135 Southeast 1st Street, Paris, TX 75460.
Unincorporated Areas of Lamar County
Maps are available for inspection at 119 North Main Street, Paris, TX 75460.
Montague County, Texas, and Incorporated Areas
Docket No.: FEMA-B-1069
Cowskin Creek | Approximately 1,500 feet downstream of the Wise County boundary | +921 | Unincorporated Areas of Montague County.
| Just downstream of the Wise County boundary | +931
* National Geodetic Vertical Datum.
+ North American Vertical Datum.
# Depth in feet above ground.
‸ Mean Sea Level, rounded to the nearest 0.1 meter.
ADDRESSES
Unincorporated Areas of Montague County
Maps are available for inspection at 101 East Franklin Street, Montague, TX 76251.
Walker County, Texas, and Incorporated Areas
Docket No.: FEMA-B-1061
Baldwin Creek | Approximately 2.7 miles downstream of County Highway FM 247 | +244 | Unincorporated Areas of Walker County.
| Approximately 1.6 miles downstream of County Highway FM 247 | +261
Caney Creek | Approximately 0.6 mile upstream of County Highway FM 2296 | +354 | Unincorporated Areas of Walker County.
| Approximately 0.6 mile downstream of Evelyn Lane | +374
Crabb Creek | Approximately 475 feet upstream of North Rocky Creek | +257 | Unincorporated Areas of Walker County.
| Approximately 500 feet upstream of I-45/U.S. Route 190 | +287
East Fork (Tanyard Branch) | Approximately 0.5 mile upstream of confluence with Tanyard Branch | +291 | Unincorporated Areas of Walker County.
| Approximately 0.9 mile upstream of confluence with Tanyard Branch | +298
Hadley Creek | Just downstream of Rosenwall Road | +250 | Unincorporated Areas of Walker County.
| Just upstream of the confluence with North Rocky Creek | +285
Hendricks Lake | At the confluence with Town Branch | +273 | Unincorporated Areas of Walker County.
| Approximately 700 feet downstream of County Highway FM 2821 | +284
Mays Creek | Approximately 0.4 mile upstream of County Highway FM 2929 | +320 | Unincorporated Areas of Walker County.
| Approximately 2.5 miles upstream of County Highway FM 2929 | +355
McDonald Creek | Approximately 0.4 mile upstream of West Sunset Drive | +293 | Unincorporated Areas of Walker County.
| Just downstream of Spring Drive | +357
McGary Creek | Approximately 1.8 miles downstream of the confluence with Tributary 6 (McGary Creek) | +279 | Unincorporated Areas of Walker County.
| Approximately 1,750 feet downstream of the confluence with Tributary 6 (McGary Creek) | +289
| Approximately 0.8 mile downstream of Timberwilde Drive | +318
| Approximately 0.9 mile upstream of Timberwilde Drive | +351
Parker Creek | Approximately 0.6 mile upstream of Tributary Number 8 (Parker Creek) | +212 | Unincorporated Areas of Walker County.
| At the confluence with Town Branch | +260
Prairie Branch | At the confluence with Raven Lake | +287 | Unincorporated Areas of Walker County.
| Just downstream of Camellia Drive | +307
Robinson Creek | Approximately 1,250 feet upstream of Robinson Road | +283 | Unincorporated Areas of Walker County.
| Approximately 0.6 mile downstream of Veterans Memorial Highway | +333
Scott Branch | At the confluence with Thickett Branch | +256 | Unincorporated Areas of Walker County.
| Approximately 1,250 feet upstream of the confluence with Thickett Branch | +261
Shepherd Creek | Approximately 0.71 mile upstream of County Highway FM 2296 | +317 | Unincorporated Areas of Walker County.
| Approximately 1.5 miles upstream of the confluence with Tributary 3 | +381
Tanyard Branch | Approximately 500 feet downstream of the confluence with Tributary Number 2 (Tanyard Branch) | +224 | Unincorporated Areas of Walker County.
| Approximately 0.5 mile upstream of U.S. Route 190 | +363
Thickett Branch | Approximately 500 feet downstream of the confluence with Scott Branch | +256 | Unincorporated Areas of Walker County.
| Approximately 800 feet upstream of the confluence with Scott Branch | +260
Town Branch | At the confluence with Parker Creek | +260 | Unincorporated Areas of Walker County.
| Approximately 1,200 feet upstream of the confluence with Hendricks Lake | +277
Tributary 1 (Robinson Creek) | At the confluence with Robinson Creek | +294 | Unincorporated Areas of Walker County.
| Approximately 400 feet downstream of Gazebo Street | +329
Tributary 2 (Tanyard Branch) | At the confluence with Tanyard Branch | +224 | Unincorporated Areas of Walker County.
| Approximately 1,200 feet upstream of Robinson Road | +253
Tributary 5 (McGary Creek) | Approximately 1,250 feet upstream of the confluence with McGary Creek | +323 | Unincorporated Areas of Walker County.
| Just downstream of Timberwilde Drive | +329
Tributary 6 (McGary Creek) | Approximately 0.9 mile upstream of the confluence with McGary Creek | +301 | Unincorporated Areas of Walker County.
| Approximately 2.17 miles upstream of the confluence with McGary Creek | +319
Tributary 9 (Shepherd Creek) | At the confluence with Shepherd Creek | +332 | Unincorporated Areas of Walker County.
| Approximately 900 feet downstream of Four Notch Road | +347
Tributary Number 7 (Hadley Creek) | Approximately 1,200 feet downstream of Cauthen Drive | +256 | Unincorporated Areas of Walker County.
| Approximately 1.3 miles upstream of Cauthen Drive | +275
Tributary Number 8 (Parker Creek) | Approximately 0.9 mile upstream of the confluence with Pain Branch | +218 | Unincorporated Areas of Walker County.
| Approximately 0.9 mile downstream of Albritton Road | +231
Wayne Creek | Approximately 1,750 feet downstream of Forest Service Road # 236A | +259 | Unincorporated Areas of Walker County.
| Approximately 1.1 miles upstream of the confluence with Ford Branch | +298
* National Geodetic Vertical Datum.
+ North American Vertical Datum.
# Depth in feet above ground.
‸ Mean Sea Level, rounded to the nearest 0.1 meter.
ADDRESSES
Unincorporated Areas of Walker County
Maps are available for inspection at 1100 University Avenue, Huntsville, TX 77320.
Washington County, Texas, and Incorporated Areas
Docket No.: FEMA-B-1065
Hog Branch | Approximately 2,500 feet upstream of North Blue Bell Road | +240 | Unincorporated Areas of Washington County.
| Approximately 1,000 feet upstream of North Blue Bell Road | +249
Little Sandy Creek | Approximately 300 feet upstream of Old Independence Road | +240 | Unincorporated Areas of Washington County.
| Approximately 200 feet downstream of Burleson Street | +278
* National Geodetic Vertical Datum.
+ North American Vertical Datum.
# Depth in feet above ground.
‸ Mean Sea Level, rounded to the nearest 0.1 meter.
ADDRESSES
Unincorporated Areas of Washington County
Maps are available for inspection at the Washington County Courthouse, 100 East Main Street, Brenham, TX 77833.
Lincoln County, Wisconsin, and Incorporated Areas
Docket No.: FEMA-B-1115
Copper River | Approximately 0.8 mile upstream of the confluence with the Wisconsin River | +1279 | Unincorporated Areas of Lincoln County.
| At County Highway E | +1316
Prairie River | Approximately 0.3 mile downstream of Town Hall Road | +1436 | Unincorporated Areas of Lincoln County.
| At State Highway 17 | +1476
Wisconsin River | Approximately 0.4 mile upstream of the confluence with the Pine River | +1228 | City of Merrill, Unincorporated Areas of Lincoln County.
| Approximately 990 feet downstream of South Center Avenue | +1244
| Approximately 2.5 miles downstream of Grandfather Dam | +1293
| At the downstream side of Grandfather Dam | +1368
| Approximately 0.7 mile upstream of County Highway E | +1401
| At the downstream side of Grandmother Dam | +1406
| Approximately 0.9 mile upstream of the confluence with Little Pine Creek | +1422
| Approximately 0.4 mile downstream of Tomahawk Dam | +1429
* National Geodetic Vertical Datum.
+ North American Vertical Datum.
# Depth in feet above ground.
‸ Mean Sea Level, rounded to the nearest 0.1 meter.
ADDRESSES
City of Merrill
Maps are available for inspection at 1004 East 1st Street, Merrill, WI 54452.
Unincorporated Areas of Lincoln County
Maps are available for inspection at 804 North Sales Street, Merrill, WI 54452.

(Catalog of Federal Domestic Assistance No. 97.022, “Flood Insurance.”)

Dated: June 30, 2011.
Sandra K. Knight,
Deputy Federal Insurance and Mitigation Administrator, Mitigation, Department of Homeland Security, Federal Emergency Management Agency.

[FR Doc. 2011-18627 Filed 7-21-11; 8:45 am]

BILLING CODE 9110-12-P